DEPARTMENT OF COMMERCE

International Trade Administration

A-570-890

Wooden Bedroom Furniture from the People's Republic of China: Extension of Time Limits for the Final Results of the Antidumping Duty Administrative Review and New Shipper Reviews

AGENCY: Import Administration, International Trade Administration, Department of Commerce.

EFFECTIVE DATE: June 23, 2008.

FOR FURTHER INFORMATION CONTACT: Paul Stolz, AD/CVD Operations, Office 8, Import Administration, International Trade Administration, U.S. Department of Commerce, 14th Street and Constitution Avenue, NW, Washington, DC 20230; telephone: (202) 482-4474.

Background

The Department of Commerce (“the Department”) published an antidumping duty order on wooden bedroom furniture (“WBF”) from the People's Republic of China (“PRC”) on January 4, 2005. See Notice of Amended Final Determination of Sales at Less Than Fair Value and Antidumping Duty Order: Wooden Bedroom Furniture From the People's Republic of China, 70 FR 329 (January 4, 2005). On March 7, 2007, the Department published in the Federal Register a notice of the initiation of the antidumping duty administrative review and new shipper reviews of WBF from the PRC for the period January 1, 2006, through December 31, 2006. See Initiation of Administrative Review of Antidumping Duty Order on Wooden Bedroom Furniture from the People's Republic of China, 72 FR 10159 (March 7, 2007) and Wooden Bedroom Furniture from the People's Republic of China: Initiation of New Shipper Reviews, 72 FR 10158 (March 7, 2007) (“Initiation of Third Annual New Shipper Reviews”). On February 13, 2008, the Department published in the Federal Register the preliminary results of the second administrative review and the new shipper reviews. See Wooden Bedroom Furniture from the People's Republic of China: Preliminary Results of Antidumping Duty Administrative Review, Preliminary Results of New Shipper Reviews and Notice of Partial Rescission, 73 FR 8273 (February 13, 2008). The final results of the administrative and new shipper reviews are currently due no later than June 12, 2008.

Extension of Time Limit of Final Results.

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days. Completion of the final results of these reviews within the 120-day period is not practicable because the Department conducted verification in the administrative review after publication of the preliminary results, and, therefore, needs additional time to complete verification reports, provide an opportunity for, and analyze, comments by interested parties on the preliminary results and verification reports, and analyze information gathered at verification.

Because it is not practicable to complete these reviews within the time specified under the Act, we are fully extending the time period for issuing the final results of the administrative and new shipper reviews in accordance with section 751(a)(3)(A) of the Act. Therefore, the final results are due no later than August 11, 2008, which is 180 days from publication of the preliminary results. This notice is published pursuant to sections 751(a) and 777(i) of the Act.

Dated: June 9, 2008.
Stephen J. Claeys,
Deputy Assistant Secretary for Import Administration.

[FR Doc. E8-14126 Filed 6-20-08; 8:45 am]

BILLING CODE 3510-DS-S